DEPARTMENT OF STATE

[Public Notice 5080]

60-Day Notice of Proposed Information Collection: DS Form 4502, Fulbright Teacher Exchange Program Application Package, OMB Control No. 1405-0114

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Fulbright Teacher Exchange Program Application Package.

• OMB Control Number: 1405-0114.

• Type of Request: Extension of a currently approved collection.

• Originating Office: Office of Global Educational Programs (ECA/A/S).

• Form Number: DS-4502.

• Respondents: Educators desiring to participate in the Fulbright Teacher Exchange Program.

• Estimated Number of Respondents: 950.

• Estimated Number of Responses: 950.

• Average Hours Per Response: 3.

• Total Estimated Burden: 2850.

• Frequency: On occasion.

• Obligation to Respond: Required to obtain or retain a benefit.

DATES: The Department will accept comments from the public up to 60 days from May 16, 2005.

ADDRESSES: You may submit comments by any of the following methods:

• E-mail: chagnonrx@state.gov. You must include the DS form number (if applicable), information collection title, and OMB control number in the subject line of your message.

• Mail (paper, disk, or CD-ROM submissions): Teacher Exchange Branch (ECA/A/S/X), Department of State, SA-44, Room 349, 301 Fourth Street, SW., Washington, DC 20547.

• Fax: 202-401-1433

• Hand Delivery or Courier: Same as mail address.

FOR FURTHER INFORMATION CONTACT: Public comments, or requests for additional information, regarding the collection listed in this notice should be directed to Jennifer Gibson, Branch Chief, or Ruta Chagnon, Program Officer (ECA/A/S/X); Department of State, SA-44, Room 349, 301 Fourth Street, SW., Washington, DC 20547, who may be reached on 202-619-4555/6.

SUPPLEMENTARY INFORMATION: We are soliciting public comments to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

Abstract of proposed collection: Under the Mutual Educational and Cultural Exchange (Fulbright-Hays) Act of 1961, as amended, the Fulbright Teacher Exchange Program offers six-week, semester, and academic-year exchanges and seminar opportunities to U.S. educators. The data collected is used to determine whether prospective candidates are qualified for participation in the program.

Methodology: Applicants submit either a paper or electronic application to ECA. The receiving office programs the data into a computer for retention and program use as appropriate.

Additional Information: None.

Dated: April 8, 2005.
Cathy Chikes,
Executive Director, Office of Global Educational Programs, Department of State.

[FR Doc. 05-9716 Filed 5-13-05; 8:45 am]

BILLING CODE 4710-05-P